NUCLEAR REGULATORY COMMISSION

[Docket No. EA-21-014; NRC-2021-0177]

Order Suspending General License Authority To Export Radioactive Material and Deuterium to China General Nuclear (CGN), CGN Subsidiaries, or Related Entities

AGENCY: Nuclear Regulatory Commission.

ACTION: Order; issuance.

SUMMARY: The U.S. Nuclear Regulatory Commission (NRC) is issuing an Order suspending the general license authority under NRC regulations to export radioactive material and deuterium to China General Nuclear (CGN), CGN subsidiaries, or related entities.

DATES: This Order takes effect immediately.

ADDRESSES: Please refer to Docket ID NRC-2021-0177 when contacting the NRC about the availability of information regarding this document. You may obtain publicly available information related to this document using any of the following methods:

• Federal Rulemaking Website: Go to https://www.regulations.gov and search for Docket ID NRC-2021-0177. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov.

• Attention: The PDR, where you may examine and order copies of public documents, is currently closed. You may submit your request to the PDR via email at pdr.resource@nrc.gov or call 1-800-397-4209 or 301-415-4737, between 8:00 a.m. and 4:00 p.m. (ET), Monday through Friday, except Federal holidays.

FOR FURTHER INFORMATION CONTACT: Office of International Programs, U.S. Nuclear Regulatory Commission, Washington, DC 20555-0001, telephone: 301-287-9241, email: IP.Resource@nrc.gov.

SUPPLEMENTARY INFORMATION: The text of the Order is attached.

Dated: September 27, 2021.
For the Nuclear Regulatory Commission.
Nader L. Mamish,
Director, Office of International Programs.

Attachment—Order

In the Matter of General License Holders—EA-21-014

Order Suspending General License Authority To Export Radioactive Material and Deuterium to China General Nuclear (CGN), CGN Subsidiaries, or Related Entities (Effective Immediately)

The licensees that are subject to this order are authorized by the NRC through the general license granted in sections 110.21 through 110.24 of title 10 of the Code of Federal Regulations (CFR), pursuant to Sections 54, 64, 82, and 109b of the Atomic Energy Act of 1954, as amended (AEA), to export radioactive material and deuterium to CGN, CGN subsidiaries, or related entities. The Executive Branch has determined that suspending general license authority under 10 CFR part 110 for exports to CGN, CGN subsidiaries, and related entities is necessary to further the national security interests of the United States and to enhance the United States common defense and security consistent with the Atomic Energy Act of 1954, as amended. This determination is an extension of the licensing framework for civil nuclear exports from the United States to China established by the Executive Branch in 2018. For this reason, the Executive Branch has recommended that the NRC suspend the general license authority in 10 CFR 110.21 through 110.24 for any exports of radioactive material and deuterium to CGN, CGN subsidiaries, and related entities.

Accordingly, pursuant to Sections 161b., 161i., 183, and 186 of the AEA, and 10 CFR 110.20(b) and (f) and 10 CFR 110.50(a)(1) and (2), NRC general license authority to export radioactive material and deuterium to CGN, CGN subsidiaries, or related entities under Sections 54, 64, 82 and 109b of the AEA and 10 CFR 110.21 through 110.24 is suspended, effective immediately. This suspension will remain in effect until further notice.

Dated: September 27, 2021.

For the Nuclear Regulatory Commission.

Nader L. Mamish,

Director, Office of International Programs.

[FR Doc. 2021-21342 Filed 9-30-21; 8:45 am]

BILLING CODE 7590-01-P